DEPARTMENT OF AGRICULTURE

Submission for OMB Review; Comment Request

March 11, 2015.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 16, 2015 will be considered. Written comments should be addressed to: Desk Officer for Agriculture, Office of Information and Regulatory Affairs, Office of Management and Budget (OMB), New Executive Office Building, 725-17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Gypsy Moth Host Materials from Canada.

OMB Control Number: 0579-0142.

Summary of Collection: The United States Department of Agriculture (USDA) is responsible for preventing plant diseases or insect pests from entering the United States, preventing the spread of pests not widely distributed in the United States, and eradicating those imported pests when eradication is feasible. Under the Plant Protection Act (7 U.S.C. 7701 et seq.), the Secretary of Agriculture is authorized to regulate the importation of plants, plant products, and other articles to prevent the introduction of injurious plant pests. The Plant Protection and Quarantine program within USDA's Animal and Plant Health Inspection Service (APHIS) is responsible for ensuring that these regulations are enforced.

Need and Use of the Information: APHIS will collect information from individuals both within and outside the United States using phytosanitary certificates, certificates of origin, a written statement and a compliance agreement. Information collected will ensure that importing foreign logs, trees, shrubs, and other articles do not harbor plant or insect pests such as the gypsy moth. Failing to collect this information would cripple APHIS' ability to ensure that trees, shrubs, logs, and a variety of other items imported from Canada do not harbor gypsy moths.

Description of Respondents: Business or other for-profit; Individuals or households; Federal Government.

Number of Respondents: 2,131.

Frequency of Responses: Reporting: On occasion.

Total Burden Hours: 128.

Animal and Plant Health Inspection Service

Title: Infectious Salmon Anemia (ISA)—Payment of Indemnity.

OMB Control Number: 0579-0192.

Summary of Collection: The Animal Health Protection Act (AHPA) of 2002 is the primary Federal law governing the protection of animal health. The law gives the Secretary of Agriculture broad authority to detect, control, or eradicate pest or diseases of livestock or poultry. Infectious Salmon Anemia (ISA) is a clinical disease resulting from infection with the ISA virus; signs include hemorrhaging, anemia, and lethargy. ISA poses a substantial threat to the economic viability and sustainability of salmon aquaculture in the United States and abroad. The Animal and Plant Health Inspection Service (APHIS) will collect information using VS Form 1-22 ISA Program Enrollment Form and VS Form 1-23 All Species Appraisal & Indemnity Claim Form.

Need and Use of the Information: APHIS uses the following information activities to reimburse aquaculture industry businesses; conduct biosecurity, protocols and audits; develop site-specific ISA action plans; compile fish inventories and mortality reports (and keep records of the inventories and reports); and conduct disease surveillance. Each program participant must sign an ISA Program Enrollment Form in which they agree to participate fully in USDA's and the State of Maine's ISA Program. APHIS will collect the owner's name and address, the number of fish for which the owner is seeking payment, and the appraised value of each fish. The owner must also certify as to whether the fish are subject to a mortgage. Without the information it would be impossible for APHIS to launch its program to contain and prevent ISA outbreaks in the United States.

Description of Respondents: Business or other for-profit.

Number of Respondents: 12.

Frequency of Responses: Recordkeeping; Reporting: On occasion.

Total Burden Hours: 484.

Animal and Plant Health Inspection Service

Title: Importation of Clementines from Spain.

Omb Control Number: 0579-0203.

Summary of Collection: Under the Plant Protection Act (7 U.S.C. 7701 et seq.), the Secretary of Agriculture is authorized to regulate the importation of plants, plant products, and other articles to prevent the introduction of injurious plant pests. The regulations in “Subpart—Fruits and Vegetables,” 7 CFR 319.56 through 319.56-67, prohibits or restrict the importation of certain fruits and vegetables into the United States from certain parts of the world to prevent the introduction and dissemination of plant pest, including fruit flies. Under the regulations, clementines from Spain are subject to certain conditions before entering the United States to ensure that exotic plant pest, such as the Mediterranean fruit fly, are not introduced into the United States.

Need and Use of the Information: APHIS uses the following information collection activities to allow the importation of clementines from Spain when the requirements include: Provisions that the clementines be grown in accordance with a Mediterranean fruit fly management program established by the Government of Spain; Trapping and Control Records; Phytosanitary Certificate; Labeling and Traceback; Cold Treatment Data for Consignments; Trust Fund; and Grower Registration and Agreement.

Failure to collect this information would cripple APHIS' ability to ensure that clementines from Spain are not carrying fruit flies.

Description of Respondents: Business or other for-profit; Federal Government.

Number of Respondents: 4,508.

Frequency of Responses: Recordkeeping; Reporting: On occasion.

Total Burden Hours: 6,507.

Ruth Brown,
Departmental Information Collection Clearance Officer.

[FR Doc. 2015-05992 Filed 3-16-15; 8:45 am]

BILLING CODE 3410-34-P